FEDERAL COMMUNICATIONS COMMISSION

47 CFR Part 51

[CC Docket No. 96-98; DA 01-1658]

Update and Refresh Record on Rules Adopted in 1996 Local Competition Docket

AGENCY: Federal Communications Commission.

ACTION: Proposed rule.

SUMMARY: This document invites parties to update and refresh the record on issues pertaining to the rules the Commission adopted in the First Report and Order in CC Docket No. 96-98, Implementation of the Local Competition Provisions of the Telecommunications Act of 1996.

DATES: Comments are due September 12, 2001 and reply comments are due September 27, 2001.

FOR FURTHER INFORMATION CONTACT: Dennis Johnson, Attorney Advisor, Network Services Division, Common Carrier Bureau, (202) 418-2320.

SUPPLEMENTARY INFORMATION: This is a summary of the Commission's document regarding CC Docket No. 96-98, released on July 12, 2001. The complete text of this document is available for inspection and copying during normal business hours in the FCC Reference Information Center, Courtyard Level, 445 12th Street, S.W., Washington, DC, and also may be purchased from the Commission's copy contractor, International Transcription Services (ITS, Inc.), CY-B400, 445 12th Street, SW., Washington, DC. It is also available on the Commission's website at: http://www.fcc.gov/Daily_Releases/Daily_Business/2001/db0712/da011658.doc.

Synopsis

1. On August 8, 1996, the Commission released the Local Competition Second Report and Order, FCC 96-333, 61 FR 47284 (September 6, 1996), as required by the Telecommunications Act of 1996. Many of the parties filed petitions for reconsideration of that order. The Commission subsequently resolved a majority of these petitions but due to the significant litigation arising from the rules adopted in the Local Competition Second Report and Order, several petitions remain unresolved. Specifically, the remaining petitions seek reconsideration of the rules governing intraLATA toll dialing parity pursuant to section 251(b)(3) of the Telecommunications Act of 1996 (Act), and network change disclosure rules pursuant to section 251(c)(5) of the Act. Since many of these petitions were filed several years ago, the passage of time and intervening developments may have rendered the record developed by those petitions stale. Moreover, some issues raised in petition for reconsideration may have become moot or irrelevant in light of intervening events.

2. For these reasons, the Commission requests that parties that filed petitions for reconsideration following release of the Local Competition Second Report and Order identify issues from that order that remain unresolved now and supplement those petitions, in writing, to indicate which findings and rules they still wish to be reconsidered. To the extent that intervening events have materially altered the circumstances surrounding filed petitions or the relief sought by filing parties, those entities may refresh the record with new information or arguments related to their original filings that they believe to be relevant to the issues. The previously filed petitions will be deemed withdrawn and will be dismissed if parties do not indicate in writing an intent to pursue their respective petitions for reconsideration. The refreshed record will enable the Commission to undertake appropriate and expedited reconsideration of its local competition rules.

List of Subjects in 47 CFR Part 51

Communications common carriers, Interconnection.

Federal Communications Commission.
Diane Griffin Harmon,
Acting Chief, Network Services Division Common Carrier Bureau.

[FR Doc. 01-20227 Filed 8-10-01; 8:45 am]

BILLING CODE 6712-01-P